DEPARTMENT OF ENERGY

Federal Energy Regulatory Commission

[Docket No. CP20-486-000]

Tuscarora Gas Transmission Company; Notice of Schedule for Environmental Review of the Tuscarora Xpress Project

On June 24, 2020, Tuscarora Gas Transmission Company (Tuscarora) filed an application in Docket No. CP20-486-000 requesting a Certificate of Public Convenience and Necessity pursuant to Section 7(c) and 7(b) of the Natural Gas Act to construct, replace, and operate certain interstate natural gas transmission pipeline facilities. The proposed project known as the Tuscarora Xpress Project (Project), seeks to increase the certificated capacity of its natural gas pipeline by 15,000 dekatherms per day from Malin, Oregon to the Wadsworth Compressor Station in Washoe County, Nevada.

On July 7, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—February 8, 2021

90-day Federal Authorization Decision Deadline—May 9, 2021

If a schedule change becomes necessary, additional notice will be provided so that the relevant agencies are kept informed of the Project's progress.

Project Description

Tuscarora proposes to replace and upgrade an existing reciprocating compressor unit (and building) and construct a new skid-mounted compressor unit at the same location within the existing Wadsworth Compressor Station in Washoe County, Nevada. Additionally, Tuscarora would upgrade an existing meter, replace the existing meter bypass line with a new meter piping run, and install a new meter within the existing compressor station site. According to Tuscarora, the Project is necessary to meet the growing market demand for natural gas in this area.

Background

On August 4, 2020, the Commission issued a Notice of Intent to Prepare an Environmental Assessment for the Proposed Tuscarora XPress Project and Request for Comments on Environmental Issues (NOI). The NOI was sent to affected landowners; federal, state, and local government agencies; elected officials; environmental and public interest groups; Native American tribes; other interested parties; and local libraries and newspapers. In response to the NOI, the Commission did not receive any environmental comments.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP20-486), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 1, 2020.
Kimberly D. Bose,
Secretary.

[FR Doc. 2020-22159 Filed 10-6-20; 8:45 am]

BILLING CODE 6717-01-P